DEPARTMENT OF COMMERCE

National Oceanic and Atmospheric Administration

RIN 0648-XD521

Pacific Fishery Management Council; Public Meeting

AGENCY: National Marine Fisheries Service (NMFS), National Oceanic and Atmospheric Administration (NOAA), Commerce.

ACTION: Notice of public meeting.

SUMMARY: The Pacific Fishery Management Council's (Pacific Council) Salmon Advisory Subpanel (SAS) and ad hoc Lower Columbia River Natural Coho Workgroup (LRC Workgroup) will hold a public work session in Portland, OR. The meeting is open to the public, but is not intended as a public hearing. Public comments will be taken as time allows.

DATES: The work session will begin at 9 a.m. on Wednesday, October 15, 2014 and will proceed until 5 p.m. or until business for the day is completed.

ADDRESSES: The work session will be held at the Sheraton Portland Airport Hotel, Cascade A and B Rooms, 8235 Northeast Airport Way, Portland, OR 97220; telephone: (503) 281-2500.

Council address: Pacific Fishery Management Council, 7700 NE Ambassador Place, Suite 101, Portland, OR 97220; telephone: (503) 820-2280.

FOR FURTHER INFORMATION CONTACT: Mr. Mike Burner, Pacific Council; telephone: (503) 820-2414.

SUPPLEMENTARY INFORMATION: The SAS and LRC Workgroup will discuss proposed revisions to the Lower Columbia River natural (LCN) coho harvest matrix and prepare for the November 2014 Council meeting. Focus topics include; a review of Council guidance from the September 2014 Council meeting, the assessment of coho impacts in Columbia River tributary fisheries, and recommendations on a final range of alternative harvest strategies for LCN coho. The SAS and LRC Workgroup may also address one or more matters on the Council's November 2014 agenda. The SAS and LRC Workgroup reports and recommendations are scheduled to be presented to the Council at its November 2014 meeting in Costa Mesa, CA.

Although nonemergency issues not contained in the SAS and the LRC Workgroup meeting agendas may come before the SAS and the LRC Workgroup for discussion, those issues may not be the subject of formal action during this meeting. The SAS and the LRC Workgroup action will be restricted to those issues specifically listed in this document and to any issues arising after publication of this document requiring emergency action under Section 305(c) of the Magnuson-Stevens Fishery Conservation and Management Act, provided the public has been notified of the intent to take final action to address the emergency.

Special Accommodations

This public meeting is physically accessible to people with disabilities. Requests for sign language interpretation or other auxiliary aids should be directed to Mr. Kris Kleinschmidt at (503) 820-2425 (voice), or (503) 820-2299 (fax) at least 5 days prior to the meeting date.

Authority: 16 U.S.C. 1801 et seq.

Dated: September 24, 2014.
Tracey L. Thompson,
Acting Deputy Director, Office of Sustainable Fisheries, National Marine Fisheries Service.

[FR Doc. 2014-23096 Filed 9-26-14; 8:45 am]

BILLING CODE 3510-22-P